MORRIS K. UDALL SCHOLARSHIP AND EXCELLENCE IN NATIONAL ENVIRONMENTAL POLICY FOUNDATION

The United States Institute for Environmental Conflict Resolution

U.S. Institute for Environmental Conflict Resolution; Application for the National Roster of Dispute Resolution and Consensus Building Professionals: Sub-Roster of Transportation Mediators & Facilitators (Transportation Roster)

AGENCY: Morris K. Udall Scholarship and Excellence in National Environmental Policy Foundation, U.S. Institute for Environmental Conflict Resolution.

ACTION: Notice of availability of application.

SUMMARY: Provides interested environmental conflict resolution professionals with information regarding the application process for the National Roster of Environmental Dispute Resolution and Consensus Building Professionals (Roster of ECR Practitioners) and the new Sub-Roster of Transportation Mediators & Facilitators (Transportation Roster).

DATES: The application period for the Roster of ECR Practitioners is open and continuous. Current and new members of the Roster of ECR Practitioners must submit an application for the Sub-Roster of Transportation Mediators & Facilitators by August 15, 2001 in order to be included in the initial Transportation Roster. Future application opportunities for the Transportation Roster have not been determined.

ADDRESSES: Application for the Roster of ECR Practitioners and the Transportation Roster: www.ecr.gov (follow roster link). Hard copy application for those without web access: Joan C. Calcagno, Roster Manager, U.S. Institute for Environmental Conflict Resolution, 110 South Church Avenue, Suite 3350, Tucson, Arizona 85701.

FOR FURTHER INFORMATION CONTACT: Joan C. Calcagno, Roster Manager, U.S. Institute for Environmental Conflict Resolution, 110 South Church Avenue, Suite 3350, Tucson, Arizona 85701, 520-670-5299, E-mail: roster@ecr.gov

SUPPLEMENTARY INFORMATION: The U.S. Institute for Environmental Conflict Resolution: The U.S. Institute for Environmental Conflict Resolution is a federal program established by the U.S. Congress to assist parties in resolving environmental, natural resource, and public lands conflicts. The Institute is part of the Morris K. Udall Foundation, an independent federal agency of the executive branch overseen by a board of trustees appointed by the President. The Institute serves as an impartial, non-partisan institution providing professional expertise, services, and resources to all parties involved in such disputes, regardless of who initiates or pays for assistance. The Institute helps parties determine whether collaborative problem solving is appropriate for specific environmental conflicts, how and when to bring all the parties to the table, and whether a third-party facilitator or mediator might be helpful in assisting the parties in their efforts to reach consensus or to resolve the conflict. In addition, the Institute maintains a roster of qualified facilitators and mediators with substantial experience in environmental conflict resolution, the National Roster of Environmental Dispute Resolution and Consensus Building Professionals (Roster of ECR Practitioners), and can help parties in selecting an appropriate neutral.

The Roster of ECR Practitioners: The U.S. Institute for Environmental Conflict Resolution continues to accept applications for the National Roster of Environmental Dispute Resolution and Consensus Building Professionals (Roster of ECR Practitioners). The roster includes approximately 155 practitioners with substantial experience as mediators, facilitators, or other collaborative process neutral roles, in environmental cases and processes. The roster serves as a resource for the Institute in making referrals and when sub-contracting with practitioners. It also serves as a resource for federal agencies and other stakeholders when seeking to contract with a practitioner. A roster search and referral is currently available by contacting the Institute and will eventually be available to all on the web.

Information About and the Application for the Roster of ECR Practitioners: The roster application can be completed and submitted online from the Institute's web site: www.ecr.gov. Complete information about the Institute, the development and purpose of the roster, the entry criteria, and a score sheet are available for your use and review on the Institute's web site. Click the roster link. Please review the entry criteria, the application's glossary definitions, and the instructions carefully to ensure a prompt determination.

The Sub-Roster of Transportation Mediators & Facilitators: The Institute is also assembling a roster of qualified dispute resolution and consensus building professionals with particular experience in transportation cases: the Sub-Roster of Transportation Mediators & Facilitators (“Transportation Roster”). The Institute will draw from members of the Roster of ECR Practitioners to assemble the Transportation Roster. The Transportation Roster is part of an ADR system designed through an interagency agreement with the Federal Highway Administration. The system includes the development of a guidance document, a training course, and the Transportation Roster. Information about the Transportation Roster and the appropriate use of neutrals will be provided to every relevant federal and state transportation, environmental, and historical review agency as part of a new guidance document (Environmental Streamlining and Conflict Management.) Transportation roster members will be available to all of these agencies to help design collaborative processes and to resolve interagency disputes that arise during environmental reviews of transportation projects. Transportation Roster members will also be a primary source of trainers for planned interagency training on negotiations and conflict management.

Eligibility for the Transportation Roster: Environmental conflict resolution practitioners (mediators, facilitators, consensus builders, etc.) must first be members of the National Roster of Environmental Dispute Resolution and Consensus Building Professionals (Roster of ECR Practitioners) and then submit the Transportation Roster application demonstrating that they meet the Transportation Roster entry criteria. Entry criteria include experience as a neutral in transportation cases and/or as employees of, or consultants to, relevant agencies.

More Information About, and the Application for, the Transportation Roster: More information is available on the Institute's website: www.ecr.gov. Click the roster link. Click the Transportation Roster link on the right hand navigation bar. The links on that page will connect to a packet of background information, entry criteria and other requirements, applicable definitions, instructions and the short application in a MSWord or WordPerfect file. Practitioners are reminded that they must first apply to, and be a member of, the Roster of ECR Practitioners.

(Authority: 20 U.S.C. Sec. 5601-5609)

Dated the 19th day of June 2001.
Christopher L. Helms,
Executive Director, Morris K. Udall Foundation.

[FR Doc. 01-15970 Filed 6-25-01; 8:45 am]

BILLING CODE 6820-FN-P